DEPARTMENT OF TRANSPORTATION

Federal Highway Administration

Notice of Availability of the Draft Environmental Impact Statement: Los Angeles County, CA

AGENCY: Federal Highway Administration (FHWA).

ACTION: Notice of Availability of the Draft Environmental Impact Statement.

SUMMARY: The FHWA, on behalf of the California Department of Transportation (Caltrans), announces the availability of the Draft Environmental Impact Statement for a proposed highway project in Los Angeles County, California.

DATES: Public hearings for the Draft Environmental Impact Statement will be held at the dates and locations provided below:

• Tuesday, August 7, 2012 (6:00 p.m. to 9:00 p.m.)—Progress Park, 15500 Downey Ave., Paramount, California 90723

• Wednesday, August 8, 2012 (6:00 p.m. to 9:00 p.m.)—Silverado Park Community Center, 1545 W. 31st St., Long Beach, CA 90810

• Thursday, August 9, 2012 (4:00 p.m. to 8:00 p.m.)—Rosewood Park, 5600 Harbor St., Commerce, CA 90040

ADDRESSES: The Draft Environmental Impact Statement is available for review at the following locations:

• California Department of Transportation (Caltrans) District 7 Office, 100 South Main Street, Los Angeles, CA 90012 on weekdays from 9 a.m. to 3 p.m.

• Metro—Dorothy Peyton Grey Transportation Library, One Gateway Plaza, Los Angeles, CA 90012, Monday-Thursday 9 a.m. to 4 p.m., or Friday by appointment.

• Gateway Cities Council of Governments, 16401 Paramount Blvd., Paramount, CA 90723 on weekdays from 9 a.m. to 4pm.

• City of Commerce Public Library—Bristow Park Branch—1466 S. McDonnell Ave., Commerce, CA 90040

• County of Los Angeles Public Library—Hollydale Library—12000 S. Garfield Ave., South Gate, CA 90280

• County of Los Angeles Public Library—East Rancho Dominguez Library—4205 E. Compton Blvd., Compton CA 90221

• Long Beach Public Library—Main Library—101 Pacific Ave., Long Beach, CA 90822

• Long Beach Public Library Bret Harte Library—1595 W. Willow St., Long Beach, CA 90810

The Draft Environmental Impact Statement is also available at http://www.dot.ca.gov/dist07/resources/envdocs/docs/710corridor/

FOR FURTHER INFORMATION CONTACT: Ronald Kosinski, Deputy District Director, Environmental Planning, Caltrans, District 7, 100 South Main Street, Los Angeles, California, 90012, (213) 897-0703.

SUPPLEMENTARY INFORMATION: Effective July 1, 2007, the FHWA assigned and Caltrans assumed environmental responsibilities for this project pursuant to 23 U.S.C. 327. Caltrans as the delegated National Environmental Policy Act (NEPA) agency has prepared a Draft EIS on a proposal for a highway improvement project on Interstate 710 in Los Angeles County, California. The Interstate 710 Corridor Project proposes to improve Interstate 710 (I-710) in Los Angeles County. The I-710 Corridor Project proposes to widen existing I-710 from Ocean Boulevard in the City of Long Beach to State Route 60 (SR-60) in the City of Los Angeles, a distance of approximately 18 miles. The proposed project also includes improvements to the interchanges of I-710 with I-405, SR-91, and I-5, as well as the I-710 interchanges with local arterial streets throughout the project limits.

The alternatives evaluated in the Draft Environmental Impact Statement are four Build Alternatives and a No Build Alternative. Alternative 5A proposes to widen the I-710 mainline from six or eight general purpose lanes to ten general purpose lanes. This alternative will modernize the design at the I-405, SR-91 and a portion of the I-5 interchanges, modernize and reconfigure local arterial interchanges throughout the I-710 corridor, modify freeway access at various locations, and shift the I-710 centerline at various locations to reduce right-of-way impacts. In addition to improvements to the I-710 mainline and the interchanges, Alternative 5A also includes TSM/TDM, Transit, and Intelligent Transportation Systems (ITS) improvements; improvements to 42 local arterial intersections within the I-710 Corridor; aesthetic enhancements; and, drainage and water quality improvement design features. Alternative 6A includes all the components of Alternative 5A described above. In addition, this alternative includes a separated four-lane freight corridor from Ocean Boulevard northerly to its terminus near the intermodal rail yards in the city of Commerce, with limited access near I-405 and at SR-91. The freight corridor would be built to Caltrans highway design standards and would be restricted to the exclusive use of heavy-duty trucks (5+ axles). Alternative 6B includes all the components of Alternative 6A as described above, but would restrict the use of the freight corridor to zero-emission trucks rather than conventional trucks. Alternative 6C includes all the components of Alternative 6B as described above, but would toll trucks using the freight corridor. Alternative 1 (No Build) would maintain the current configuration and capacity of the existing I-710 freeway. The Notice of Intent was published in the Federal Register on August 20, 2008. Anticipated federal approvals include: Modified Access Report to the Interstate System, Air Quality Conformity, Section 7 consultation for Threatened and Endangered Species, and a Section 404 permit.

(Catalog of Federal Domestic Assistance Program Number 20.205, Highway Planning and Construction. The regulations implementing Executive Order 12372 regarding intergovernmental consultation on Federal programs and activities apply to this program.)

Issued on: June 21, 2012.
Matthew Schmitz,
Director, State Programs, Federal Highway Administration, Sacramento, California.

[FR Doc. 2012-15641 Filed 6-26-12; 8:45 am]

BILLING CODE 4910-22-P